ENVIRONMENTAL PROTECTION AGENCY

40 CFR Part 80

Regulation of Fuels and Fuel Additives

CFR Correction

In Title 40 of the Code of Federal Regulations, Parts 72 to 80, revised as of July 1, 2001, § 80.81 is corrected by revising paragraph (a) to read as follows:

§ 80.81 Enforcement exemptions for California gasoline.

* * * * *

(a) The requirements of subparts D, E, F and J of this part are modified in accordance with the provisions contained in this section in the case of California gasoline.

* * * * *

[FR Doc. 01-55535 Filed 12-26-01; 8:45 am]

BILLING CODE 1505-01-D